DEPARTMENT OF THE INTERIOR

National Park Service

[2253-665]

Notice of Intent To Repatriate a Cultural Item: Arizona State Museum, University of Arizona, Tucson, AZ

AGENCY: National Park Service, Interior.

ACTION: Notice.

Notice is here given in accordance with the Native American Graves Protection and Repatriation Act (NAGPRA), 25 U.S.C. 3005, of the intent to repatriate a cultural item in the possession of the Arizona State Museum, University of Arizona, Tucson, AZ, that meets the definition of sacred object and object of cultural patrimony under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

The cultural item consists of a dance kilt and accoutrements, also known as jish (Medicine Bundle). The item is composed of sections of cloth with stitched decorative elements, bird feathers, and cloth streamers affixed to a loop of cotton string. The item was removed circa 1950 by Dr. Gwinn Vivian from the floor of an abandoned hogan located on private land east of Chaco Canyon, in McKinley County, NM. Dr. Vivian donated the cultural item to the Arizona State Museum in 1971.

According to the collector, refuse near the hogan indicated occupation during the late 1920s or early 1930s. This is consistent with the historically documented time period of Navajo occupation in this area. Consultations with representatives of the Navajo Nation have identified the object as a Navajo jish (Medicine Bundle) used in the Tł'ééjí (Night Way Ceremony). This ceremony is widely practiced by members of the Navajo Nation.

The Navajo people believe that jish are alive and must be treated with respect. The primary purpose of the jish is to cure people of diseases, mental and physical illness, and to restore beauty and harmony. Accordingly, no single individual can truly own any jish. The right to control jish is outlined by Navajo traditional laws, which vest this responsibility in Hataałii (Medicine persons). Hataałii are not owners of jish, but only care, utilize, and bequeath them for the Navajo people.

Officials of the Arizona State Museum have determined, pursuant to 25 U.S.C. 3001(3)(C), that the cultural item described above is a specific ceremonial object needed by traditional Native American religious leaders for the practice of traditional Native American religions by their present-day adherents. Officials of the Arizona State Museum also have determined, pursuant to 25 U.S.C. 3001(3)(D), that the cultural item described above has ongoing historical, traditional, or cultural importance central to the Native American group or culture itself, rather than property owned by an individual. Lastly, officials of the Arizona State Museum have determined, pursuant to 25 U.S.C. 3001(2), that there is a relationship of shared group identity that can be reasonably traced between the sacred object/object of cultural patrimony and the Navajo Nation of Arizona, New Mexico and Utah.

Representatives of any other Indian tribe that believes itself to be culturally affiliated with the sacred object/object of cultural patrimony should contact John McClelland, NAGPRA Coordinator, Arizona State Museum, University of Arizona, Tucson, AZ 85721, telephone (520) 626-2950, before April 14, 2011. Repatriation of the sacred object/object of cultural patrimony to the Navajo Nation of Arizona, New Mexico and Utah may proceed after that date if no additional claimants come forward.

The Arizona State Museum is responsible for notifying the Navajo Nation of Arizona, New Mexico and Utah that this notice has been published.

Dated: March 9, 2011.
Sherry Hutt,
Manager, National NAGPRA Program.

[FR Doc. 2011-5882 Filed 3-14-11; 8:45 am]

BILLING CODE 4312-50-P